COMMITTEE FOR PURCHASE FROM PEOPLE WHO ARE BLIND OR SEVERELY DISABLED

Agency Information Collection Activities: Proposed Collection; Comment Request

AGENCY: Committee for Purchase From People Who Are Blind or Severely Disabled.

ACTION: Proposed collection; comment request.

SUMMARY: The Committee for Purchase From People Who Are Blind or Severely Disabled is announcing an opportunity for public comment on the proposed collection of certain information by the agency. Under the Paperwork Reduction Act of 1995, Federal agencies are required to publish notice in the Federal Register concerning each proposed collection of information, and to allow 60 days for public comment in response to the notice. This notice solicits comments on requirements relating to the annual certifications of nonprofit agencies serving people who have severe disabilities (Committee Form 404).

DATES: Comments must be submitted on or before February 10, 2003.

ADDRESSES: Written comments should be addressed to the Office of Information and Regulatory Affairs, Attention: Karen F. Lee, Desk Officer, Office of Management and Budget, 725 17th Street, NW., Room 10202, New Executive Office Building, Washington, DC 20503 or be electronically e-mailed to Karen_F._Lee@omb.eop.gov. Requests for copies of documents pertaining to the collection should be addressed to Committee for Purchase From People Who Are Blind or Severely Disabled, Attention: Janet Yandik, Information Management Specialist, Jefferson Plaza 2, Suite 10800, 1421 Jefferson Davis Highway, Arlington, VA 22202-3259 or e-mailed to jyandik@jwod.gov.

SUPPLEMENTARY INFORMATION: The Committee has an annual certification form for nonprofit agencies serving people who have severe disabilities (Committee Form 404, OMB Control Number 3037-0002.)

Information on the form is needed to ensure that nonprofit agencies serving people who have severe disabilities, that participate in the Javits-Wagner-O'Day program, continue to meet the requirements of 41 U.S.C. 46-48c.

Committee Form 404 has been modified to add the following items:

1. In Section 5, Certification: A line will be added for the Agency Executive's email address.

2. In Section 7, Data for Work Performed under Javits-Wagner-O'Day (JWOD) Act Only: A line will be added to count the number of people who are severely disabled, who worked on JWOD products and the number of people who are severely disabled who worked on JWOD services.

3. In Section 8, Placement and Promotion of People With Severe Disabilities: A third column will be added entitled “Direct Placement” to account for individuals placed into competitive or supported employment, but cannot currently be accounted for under the JWOD and NON-JWOD categories.

4. In Section 9, Sales Data: A block will be added to collect sales data from Base Supply Centers separate from the service sales.

Sheryl D. Kennerly,
Director of Information Management.

[FR Doc. 03-506 Filed 1-9-03; 8:45 am]

BILLING CODE 6353-01-P